DEPARTMENT OF AGRICULTURE

Office of the Secretary

Strengthening Civil Rights Management

AGENCY: Office of the Secretary, USDA.

ACTION: Request for Information (RFI).

SUMMARY: Consistent with Executive Order 13781, “Comprehensive Plan for Reorganizing the Executive Branch,” and using the authority of the Secretary to reorganize the Department under section 4(a) of Reorganization Plan No. 2 of 1953 the U.S. Department of Agriculture (USDA) is soliciting public comment on a proposed realignment of the Office of the Assistant Secretary for Civil Rights (OASCR), which will improve customer service, better align functions within the organization, and ensure improved consistency, resource management, and strategic decision-making.

DATES: Comments and information are requested on or before March 25, 2018.

ADDRESSES: Interested persons are invited to submit comments regarding this notice. All submissions must refer to “Improving Civil Rights” to ensure proper delivery.

• Electronic Submission of Comments. Interested persons may submit comments electronically through the Federal eRulemaking Portal: http://www.regulations.gov. USDA strongly encourages commenters to submit comments electronically. Electronic submission of comments allows the commenter maximum time to prepare and submit a comment, and ensures timely receipt by USDA. Commenters should follow the instructions provided on that site to submit comments electronically.

• Submission of Comments by Mail, Hand Delivery, or Courier. Paper, disk, or CD-ROM submissions should be submitted to the Office of the Assistant Secretary for Civil Rights, USDA, Jamie L. Whitten Building, Room 507-W, 1400 Independence Ave. SW, Washington, DC 20250.

FOR FURTHER INFORMATION CONTACT: Ms. Winona Lake Scott, Telephone Number: (202) 720-3808, winona.scott@osec.usda.gov.

SUPPLEMENTARY INFORMATION: USDA is committed to operating efficiently, effectively, and with integrity, and minimizing the burdens on individuals, businesses, and communities for participation in and compliance with USDA programs. USDA works to support the American agricultural economy to strengthen rural communities; to protect and conserve our natural resources; and to provide a safe, sufficient, and nutritious food supply for the American people. The Department's wide range of programs and responsibilities touches the lives of every American every day.

I. Executive Order 13781

Executive Order 13781, “Comprehensive Plan for Reorganizing the Executive Branch”, is intended to improve the efficiency, effectiveness, and accountability of the executive branch. The principles in the Executive Order provide the basis for taking actions to enhance and strengthen the delivery of USDA programs.

II. Reorganization Actions

On March 9, 2018, Secretary Perdue will be announcing his intent to take actions to strengthen civil rights and customer service at USDA by taking the following actions to ensure integrity, consistency, and fairness:

• USDA will eliminate inefficiencies in delivering civil rights services at the agency and staff office level, thereby resulting in improved civil rights management. Under the realignment, a Civil Rights Director and appropriate Equal Opportunity staff will be aligned as follows:

(1) Departmental Administration, staff offices, and Trade and Foreign Agricultural Affairs will share civil rights resources;

(2) Each remaining Departmental Mission Area will consolidate its sub-agency resources at the Mission Area level; and

(3) The Office of the Inspector General (OIG) shall have an independent Civil Rights Director.

• OASCR will direct all Departmental civil rights activities, including those of the Mission Areas, Departmental Administration, staff offices, and to the extent appropriate and lawful, OIG. The delegations for the Assistant Secretary for Civil Rights shall be revised as necessary to reflect OASCR's direct responsibility in providing civil rights policy direction to Mission Area and other Civil Rights Directors and Civil Rights staff and conveying the clear guidance of the Office of the Secretary on all civil rights issues.

• OASCR will implement a timely, fair, transparent, and consistent approach to addressing all Equal Employment Opportunity or program complaints, including those based on discrimination, harassment, and retaliation that shall be adopted by all Mission Areas, Departmental Administration, staff offices and, to the extent appropriate and lawful, OIG.

• OASCR will direct an effective, robust, and compliant mandatory civil rights training program for all staff, including Mission Areas, Departmental Administration, staff offices and, to the extent appropriate and lawful, OIG.

• OASCR will monitor and evaluate the implementation of the reasonable accommodation process by the Mission Areas, Departmental Management, staff offices and, to the extent appropriate and lawful, OIG.

• OASCR will not address matters that Office of Human Resource Management (OHRM) handles exclusively, such as setting human resources policy, investigating and evaluating harassment allegations for misconduct, and reviewing and advising on requests for reasonable accommodations, but will serve as a collaborative partner with OHRM on all appropriate issues affecting civil rights policy, implementation, and compliance.

• OASCR will request the Mission Areas to provide a list of all civil rights positions on-board (full-time, part-time, or collateral duty) within 30 days from issuance of this Memorandum to determine staff needs to effectuate the purpose of this Memorandum.

• Mission Areas, Departmental Administration, and the Staff Offices will implement all organizational changes necessary to effectuate the civil rights staff realignments indicated above based upon the direction of OASCR. When conducting any reorganizations, the Mission Areas, Departmental Administration, and Staff Offices will adhere to all relevant Departmental Directives, including Departmental Regulation 1010 and the corresponding Congressional notification requirements.

• OASCR will eliminate the position of Deputy Assistant Secretary for Civil Rights (ASCR), so as to flatten the organization with the Associate Assistant Secretary for Civil Rights assuming the responsibilities of the Deputy ASCR.

• OASCR will eliminate its Policy Division, which is no longer necessary in an era of decreased regulations, and will perform reduced policy functions with staff from other areas of the organization.

• OASCR will eliminate its Training and Cultural Transformation Division and will develop training with staff from other areas of the organization.

• OASCR will eliminate its Early Resolution and Complaint Division, and the Department will carry out informal counseling within each Mission Area, with coordination from a Mission Area Liaison within OASCR.

• OASCR's career Senior Executive Service (SES) Director for the Office of Compliance, Policy, Training and Cultural Transformation will be reclassified as the career SES Executive Director for Civil Rights Operations, a position responsible for managing the Mission Area Liaison, the Compliance Division, and the Data and Records Management Division over customer service, data, and information technology. The largest component in this part of the OASCR organization is the Compliance Division, which will continue addressing compliance reporting to oversight entities as well as limited regulatory and policy review.

• OASCR's career SES Director for the Office of Adjudication will be reclassified as the career SES Executive Director for Civil Rights Enforcement, a position responsible for leading not only the Office of Adjudication, but also the Program Planning, and Accountability Division over budget, contracting and procurement, human resources management, facilities management, strategic planning, and Continuity of Operations for OASCR. The largest component of this part of the OASCR organization is the Office of Adjudication is responsible for intake, investigation, and adjudication of employment discrimination complaints from USDA employees and program complaints of discrimination arising within any program conducted or assisted by USDA.

III. Request for Information

USDA is seeking public comment on these actions and notes that this notice is issued solely for information and program-planning purposes. While responses to this notice do not bind USDA to any further actions, all submissions will be reviewed by the appropriate program office, and made publicly available on http://www.regulations.gov.

Dated: March 8, 2018.
Winona Lake Scott,
Acting Deputy Assistant Secretary for Civil Rights.

[FR Doc. 2018-05051 Filed 3-12-18; 8:45 am]

BILLING CODE 3410-01-P